DEPARTMENT OF TRANSPORTATION

Office of the Secretary

Aviation, Marine and Land Radionavigation Users Conference

AGENCY: Office of the Assistant Secretary for Transportation Policy, DOT.

ACTION: Notice of conference.

SUMMARY: The U.S. Department of Transportation and the U.S. Department of Defense are conducting an open meeting for all users of U.S. Government-provided radionavigation systems. The purpose of the meeting is to obtain user perspectives on Federal policies and plans for these systems. Systems to be covered include the Global Positioning System (GPS); differential GPS and other GPS augmentations; Loran-C; VOR/DME; TACAN; Radiobeacons; and ILS/MLS. Input on all applications of these systems is welcome, including navigation, positioning, surveying and mapping, timing, network synchronization, and resource management. All users, equipment manufacturers, service providers, Federal, State, and local government personnel, and any others with an interest in these systems are encouraged to attend. There is no registration fee to attend this conference.

The meeting will be held in conjunction with the Civil GPS Service Interface Committee meeting on March 28, 29, and 30, 2000, at the Fair Oaks Holiday Inn in Fairfax, Virginia. Federal Government radionavigation policies and plans will be presented on March 28 followed by reports on international and timing GPS activities on March 29, and State and Locality GPS activities on the morning of March 30. The afternoon of March 30, beginning at 1 p.m. is reserved exclusively for questions and answers regarding current and future U.S. Government policies and plans in the Federal Radionavigation Plan.

FOR FURTHER INFORMATION CONTACT: For Further Information Contact: To obtain an information/registration package, please contact Carol-Ann Courtney at the Volpe National Transportation Systems Center; Conference Office (DTS-930); 55 Broadway, Cambridge, MA 02142. Tel: (617) 494-2686. Fax: (617) 494-2569.

Issued in Washington, DC on February 3, 2000.
Joseph F. Canny,
Deputy Assistant Secretary for Navigation Systems Policy.

[FR Doc. 00-2951 Filed 2-8-00; 8:45 am]

BILLING CODE 4910-62-P